DEPARTMENT OF HEALTH AND HUMAN SERVICES

Announcement of Availability of Funds for a Cooperative Agreement To Provide Baccalaureate Nursing Education Supportive of Maternal-Child Nursing at Kabul Medical University (KMU) and Support for the Development of a Nursing Board for Registration and Licensure at the Ministry of Public Health

AGENCY: Department of Health and Human Services, Office of the Secretary, Office of Global Health Affairs.

ACTION: Notice.

SUMMARY: The primary goal of this project is to assist Afghanistan in the development and strengthening of maternal and child health clinics/hospital systems by creating a solid, university-based, culturally-appropriate professional nursing educational program and building upon previous educational and training efforts. Funding is made available for the development of a basic baccalaureate program at Kabul Medical University and a registered nurse completion program at the Institute of Health Sciences (IHS) in Kabul, Afghanistan. The focus of both programs must be toward an emphasis on clinical training, to include the demonstration of direct patient care alongside Afghan health-care nurse providers.

Announcement Type: Single Eligibility—FY 2007 Initial Announcement.

GSA Catalog of Federal Domestic Assistance: 93.017.

DATES: Application Availability: August 16, 2007. Optional Letter of Intent must be received by 5 p.m. ET August 23, 2007. Applications must be received by 5 p.m. ET August 31, 2007. Award date: September 15, 2007.

SUPPLEMENTARY INFORMATION: The Office of Global Health Affairs (OGHA) within the Department of Health and Human Services (HHS) announces that up to $625,000 in fiscal year (FY) 2007 funds is available for one cooperative agreement to the Aga Khan Foundation (AKF), to provide support for the development of a basic baccalaureate program at Kabul Medical University and a registered nurse completion program at the Institute of Health Sciences (IHS) in Kabul, Afghanistan to include the implementation of curriculum reform in support of evidence-based theoretical and clinical nursing knowledge and practice in community based maternal-child health at Kabul Medical University, the strengthening of the nursing program at IHS and the development of a systematic program for faculty development and the development of a Board of Nursing for licensure and certification at the Ministry of Public Health (MoPH) of Afghanistan.¹ An emphasis will focus on clinical training, which will include the demonstration of direct patient care alongside Afghan health-care nurse providers. All care will also reflect an interdisciplinary approach with full participation of the medical and allied health team in the delivery of care. Nurses can be the front-line provider of care and first point of contact in many clinic settings, especially for women and children.

¹ The Baccalaureate Nursing Education and Nursing Registration and Licensure described in this document are not intended to be equal with U.S. or other Western standards for such training.

The primary goal of this project is to assist Afghanistan in the development and strengthening of maternal and child health clinics/hospital systems by creating a solid, university-based, culturally-appropriate professional nursing educational program and building upon previous educational and training efforts at the IHS by enhancing its three-year program for basic nursing. The program will be approved initially for a program period of one year in the amount of $625,000 available (including indirect costs), with continuing awards contemplated for year two and year three. Funding for the cooperative agreement in subsequent years is contingent upon the availability of funds and the satisfactory performance of the recipient.

I. Funding Opportunity Description

Authority: FY 2006 Labor/HHS/Education appropriations act, Pub. L. 109-149. 119 Stat. 2833, 2856 (Dec. 30, 2005), continued by sections 101(a)(5) and 104 of Division B of the FY 2007 Continuing Resolution, Pub. L. 110-5 (Feb. 15, 2007).

Purpose of the Agreement

HHS, in partnership with other relevant U.S. Government Departments and agencies, anticipates involvement in the development, administration and oversight of this program to improve professional nursing education and training at Kabul Medical University and the IHS in Kabul, Afghanistan. The program will be for a program period of one year. Approximately a total of $625,000 will be available for the one-year program period.

The primary goal of this project is assist Afghanistan in the development of maternal and child health clinics/hospital systems. One way is by creating a solid, university-based, culturally-appropriate professional nursing educational program and building upon previous educational and training efforts at the IHS by enhancing its three-year program for basic nursing.

A secondary goal is to support basic curriculum revision within the present nursing program in community-based maternal and child health related course work. The award recipient will also conduct a comprehensive evaluation of conditions and elements necessary for the eventual implementation of a culturally-appropriate licensing and certification program.² The funding will provide essential material resources within budgetary limitations for educational materials and for grant activities related to faculty leadership development.

² The Baccalaureate Nursing Education and Nursing Registration and Licensure described in this document are not intended to be equal with U.S. or other Western standards for such training.

Afghanistan has been at war with foreign forces and neighboring countries for over a quarter of a century and sectional violence has been rampant among ethnic groups. Over 5 million people including 300,000 children have died. Another 4.2 million Afghans have fled to Pakistan and Iran after the Soviet invasion in 1979 and repatriation continues to date. Afghanistan is a nation, which today even though nominally at peace, remains politically unstable with a resurgence of the Taliban movement primarily in the east and south. The past and present political situation impacts immensely on the physical security and health and psychological well-being of the Afghanistan people.

Afghanistan is among the countries with the poorest human development indicators. It has the second highest maternal death rate in the world and the highest infant and child mortality in Asia. Save the Children and others report that the greatest health risk to Afghan women is pregnancy. According to the United Nations Children's Fund (UNICEF) less than 15 percent of the births are attended by medically trained personnel and only 90 percent are assisted by a traditional midwife. For every 100,000 live births, about 1,400 women die each year. When mothers die in childbirth, their infants are from three to ten times more likely to die before their second birthday due to preventable illnesses and poor immunization standards and practices. This unnecessary mortality can be partially attributed to the lack of safe drinking water where outside the cities only about 30 percent of the households have access to safe water. Drought and crop failure has diminished the supplies of grains and fresh produce contributing to significant malnutrition (54 percent) and vitamin deficiencies. The harsh winters and seasonal flooding also take its toll on the health of the population. Nearly 40 percent of the children less than three years of age are underweight and more than half of the children in this age group are stunted. Afghan men have an average life expectancy of 45 years of age and the average life expectancy for women is 47 years of age, though the Maternal Mortality Rate (MMR) is higher in rural and remote areas. Addressing poverty, lack of income and limited access to health-care have been recognized as priorities by the Afghanistan government and the international donor community.

Afghanistan's resources for education and access to schools have always been limited. During the Taliban era, many teachers left the country and those that remained received little or no continuing education. The Taliban neglected or destroyed school buildings. Women and girls were denied access to education during the Taliban era and even today, older girls are prohibited from sharing classroom education with boys. As a result, literacy rates vary significantly between men and women. Nearly half of the Afghan men are illiterate and women in Afghanistan have the lowest literacy rate in the world (between 9 percent and 15 percent). The World Bank reports (January 2006) that despite the success of back to school campaigns, half of the school age children are not educated. The United States Agency for International Development (USAID) reports that there are 5 million students in school and that only 34 percent of those are girls. Although this is higher than at any time in the history of Afghanistan, women and girls lag far behind men and boys in education and the gap is not narrowing.

The Afghanistan Ministry of Public Health (MoPH) has been reconstituted and has stated that their mission is “to provide health-care to all Afghans especially to women and children and to under-served areas of the country by working effectively with communities and MoPH partners.” The primary priorities of the MoPH are as follows:

• Reduce maternal and neonatal mortality;

• Reduce child mortality;

• Reduce communicable disease;

• Reduce malnutrition;

• Improve health system; and,

• Improve mental health.

The World Health Organization (WHO) Assignment Report (16-23 May 2002) summarized the constraints facing the Afghan Health Sector, which will be reexamined in light of their status today. These constraints are as follows:

• Lack of accurate information regarding the number and nature of the work of the health-care workforce especially nurses, midwives and allied health workers: As of 2006, this remains a problem. It is estimated that there are between 3,000 to 4,000 doctors in Afghanistan with a doctor to nurse-midwife ratio of 1:1. It has also been estimated that there are 11,000 medical students in 8 medical schools and 2,200 to 2,500 students in intermediate schools for nursing and midwifery. With the financial assistance of USAID and the Aga Khan Development Network (AKDN), 228 female graduates from more than 20 provinces completed the two-year competency-based program in April 2005. As of June 2006, 805 new midwives have received training from one of two programs with approximately 70 percent completing the shorter community midwifery program. This represented a 65 percent increase from the 467 trained midwives in Afghanistan after the fall of the Taliban in 2001. By the end of 2006, 830 new midwives were expected to be trained. USAID has also provided training to 6,036 Community Health Workers of whom over half are women. USAID also reports that 227 women graduated from literacy programs that prepare them to enter the health-care professions.

Nursing as a profession, without the major emphasis on midwifery, historically has been a male-dominated profession in Afghanistan. It is estimated that there are 3,800 nurses of whom 900 are female graduates from a three-year diploma program likely practicing midwifery rather than basic nursing. Because of the high mortality associated with childbirth, all initial efforts focused on providing support to decrease this health disparity. Numerous studies state that the country will eventually need 8,000 to 10,000 midwives to strengthen the overall quality of health-care. In the past, less attention has been directed toward the needs and utilization of basic or specialized nursing professions or the development of a formal degree program in nursing. Most current efforts are being directed toward providing in-service or continuing education in a hospital-based curative oriented model.

Though most health planners would suggest that mortality associated with childbirth is a significant problem, it could also be argued that a comprehensive approach to health would be better served by devoting significant resources to the creation of a cadre of professional nurses. This nursing cadre would provide a wide repertoire of preventative as well as curative services in a wide variety of settings to patients of all ages and all genders. In 2002, recognizing the significant need for females to be prepared for a modern model of nursing practice, the Government of Afghanistan invited Aga Khan University of Nursing (AKU-SON), in collaboration with WHO, to support the development of Afghanistan's human resources in the health sector, especially midwifery, nursing and allied health within the Afghan Institute of Health Sciences (IHS).

The quantity of students graduating from the Aga Khan IHS nursing diploma program in Kabul are not as great as those graduating from the midwifery program. In 2006, of the eighty-six students graduating from the newly designed three-year diploma program, only 19 were female. Presently, there are 90 students in the second year and 70 in the first year. Across all years, the gender distribution has been disproportionately male and efforts to recruit females have become a priority, as it remains a major issue. Cognizant of the gender disparity, the MoPH declared that the class of 2007 will have a gender distribution of 80 percent female and 20 percent male on the condition that males serve in the rural areas.

• Lack of clarity/ role definition of different health practitioner categories:

This lack of specific role definition is particularly evident in the approach to the recent development of the nurse midwives for Afghanistan. Understandably, the curriculum and practice design focused on the need to deal with life threatening complications such as hemorrhage, which were occurring frequently in the rural areas and among unassisted births. In 2005, it was estimated that over 92 percent of births in Afghanistan were unassisted. Thus, two tracts of practitioners were trained or retrained if they had graduated from any of the variable length programs created after the national revolution in 1978. The difference in expectations for practice is generally determined by need or in this case, by the lack of health-care in rural areas rather than by performance-based criteria. Similarly, with basic nursing, the curative services adopted from the Soviet Union were traditionally practiced within the confines of a health-care institution and did not extended into practice in the ambulatory unit or community. Historically, all health-care was supposed to take place within the walls of a hospital.

• Workforce imbalance and misdistribution: As stated previously, the ratio of nurses to physicians, ratio of midwives to nurses and the predominance of males in the health profession, remains problematic. This problem is particularly salient given the highly conservative culture of Afghanistan. This year however, Afghanistan has made progress, as both the medical and nursing diploma program will admit 80 percent female and 20 percent male students to the new class. Both programs will also limit their enrollment substantially. The question of misdistribution in the field remains problematic. The IHS will admit males to the nursing program on the condition that they return to the rural provinces to practice. As Benjamin Loevinsohn, a World Bank health specialist states, Health workers in Afghanistan are afflicted by the “3 wrongs”: Wrong gender, wrong skills, and wrong location.”

• Absence of national standards of curriculum development for all health professionals: Progress on this endeavor has been made in both basic nursing and midwifery. However, lack of exposure to the newest clinical knowledge and skills among the present health faculty makes the task very difficult. The lack of accepted academic preparation is a major obstacle. Presently, within the university community of scholars, only three percent of the 711 higher education teachers with a master's degree (39 percent) are female. Of the 132 faculty members with a Doctorate degree, none are female and of the 998 professors with a baccalaureate degree, only nine percent are female.

• Multiple categories and varying lengths of training programs within nursing, midwifery and allied health: The length of the midwifery training programs has been standardized by the MoPH. The nursing diploma program of AKU-SON also has a standardized length. Discussion of the length and content of the baccalaureate program remains to be determined, although the newly established Kabul University program will follow a four-year model. The allied health programs follow a three-year technical school pattern.

• Proliferation of disease specific vertical training programs: Vertical training programs remain prevalent and are most widely seen in educational programs that resemble didactic continuing education programs, as these programs are promoted most often by the latest infusion of donor dollars.

• Lack of professional regulation of practice: Little progress has been made in the area of accreditation, licensure/registration and certification. Nursing and midwifery have recognized this need and established it as a high priority. A positive development has been the formation of a professional midwife organization, which is in the process of qualifying for membership in the International Confederation of Midwives. The MoPH recognized the importance of nursing by establishing a Directorate of Nursing in 2006. However, program funds are scarce or non-existent and the designation of responsibility for monitoring nursing and allied health has yet to be determined. It is therefore evident that the present Director and staff require assistance to accomplish this objective.

• Isolation and lack of coordination among professional health education schools: Unlike most programs in Afghanistan, basic nursing and midwifery programs supported by AKU-SON and USAID/JHPIEGO, an affiliate of John Hopkins University, are based on standardized competency-based curriculums, supervised routinely and coordinated centrally. The allied health programs outside of Kabul have closed due to a lack of resources, faulty physical facilities and equipment. Requests for donor support in this area have not materialized to date.

• Limited clinical experience/deficiencies in clinical training in hospital and community settings: There has been marked improvement in identifying and obtaining access to appropriate clinical experiences particularly as it relates to maternity services, which have been the recipient of the majority of the donor funding. Similarly, in those community health clinics and provincial health district hospitals supported by the World Bank, European Community and USAID, deficiencies in clinical training have begun to disappear. At the tertiary care level, children's clinical services supported by bilateral partners have been rehabilitated to the extent that they have become excellent sites for clinical training. Premier hospitals supported by a heavy reliance of expatriate leadership and management have also provided opportunities beyond the provision of basic care. Deficits in the fields of psychiatry and mental health as well as other areas of specialized and highly technical practice such as oncology and laboratory-intensive domains however continue to exist.

• Lack of coordination among educational institutions, services and policy-makers in preparing health professional cadres: Key individuals responsible for the education and practice of key professional groups have indicated a willingness to cooperate at the central level. Current bilateral funding tends to support midwifery development and with only a small percentage of donor dollars dedicated to medicine, even less was allocated to allied health. USAID has recognized that literacy at all levels is essential for development in the social sector. However, coordination between the Ministry of Education (MOE) and the MoPH still needs strengthening. The vital role of primary and secondary education in the development of professional education could also be significantly strengthened. Professional education demands critical thinking skills and an inquisitive mind for exploration of new information in the arts and sciences that are essential to the development of a humanistic role for the health practitioner.

• Lack of exposure to regional and international trends in health-care: The travel portfolio in the International Relations Department attests to the multiple trips abroad by key health professionals. Documentation to evidence the application of newly acquired information and skills and its subsequent affect on the quality of health-care delivery however does not exist. The Director of Information and Education did state that a system to track and monitor foreign travel is being implemented which will require that all trips abroad must be approved by the Ministry of Foreign Affairs (MOFA) with those of Director and above, approved by the President of Afghanistan.

The recipient of this cooperative agreement will support the development of a basic baccalaureate and a registered nurse completion program through the implementation of curriculum reform in support of evidence-based theoretical and clinical nursing knowledge and practice in community-based maternal-child health at Kabul Medical University and the strengthening of the nursing program at the Institute of Health Sciences (IHS). The recipient of this agreement will also develop a systematic program for faculty development and establish a Board of Nursing for licensure and certification at the MoPH in Kabul, Afghanistan while building the Afghan capacity to assume these functions in the future.

It is anticipated that multiple sources of significant revenue, in addition to this cooperative agreement, will be available for leveraging in accomplishment of the objectives. These sources include current MoPH and MOHE operating expenses, supplies, and staff for IHS and Kabul Medical University and international donor contributions or in-kind donations to support educational reform and growth.

The recipient will develop and upon award, implement a formal, mutually agreed-upon one-year work plan. The work plan must contain all elements listed below including timelines for completion and designated responsible agents. Measurable goals, objectives, and outcomes are expected to be integrated into the work plan as follows:

• Provide a mission statement, including the projected scope of service;

• Develop an annual operational and personnel budget, including a plan to identify, optimize, consolidate and effectively utilize all available funding sources for Kabul Medical University (KMU) and IHS;

• Document and assess the current nursing training curriculum, identifying areas of need and devising sustainable solutions for curriculum reform;

• Assess the clinical training heads of faculty and students to establish and sustain quality training and education;

• Develop and implement a plan for the revision of the nursing curriculum to include a focus on evidence-based theoretical and clinical nursing knowledge and practice in maternal-child community health for the basic nursing and registered nurse completion program;

• Prepare new course syllabi and corresponding teaching/learning resource packets based on the revised curriculum;

• Create a plan to establish the linkage between the IHS curriculum and the basic baccalaureate program to demonstrate the articulation between both;

• Establish a system of credit by examination for presently active registered nurses so they may matriculate in the baccalaureate nursing program;

• Develop a system for nurse-midwives to receive credit for clinical practice and admission into the basic and subsequent Baccalaureate program;

• Create a model for the development of clinical educators and the recruitment of health-care workers from the community to function as adjunct clinical faculty;

• Develop and establish a system for faculty and student recruitment and community outreach;

• Create a plan for the development of a Management Information System (MIS) for documentation of all training and developmental efforts and achievements;

• Create a model for faculty training which may consist of planned exercises, mentoring by international experts and facilitation by peer networking. All efforts must compliment MoPH efforts and reflect IHS and Kabul Medical School education/training standards;

• Develop a quality assurance and quality improvement assessment, monitoring and evaluation system for faculty, students and programs;

• Establish a mechanism for national dialogue in collaboration with non-governmental organizations (NGOs) providing nursing training and continuing education and other partners in relation to health planning and policy development within the MoPH, MOHE, Ministry of Women's Affairs and others; and;

• Create a plan to support the MoPH Directorate of Nursing in the development of its capacity as a regulatory and authoritative body for nursing in Afghanistan.

The award recipient will be responsible for preparing any sub-recipient request for application (RFA), conducting the RFA announcement and competition process, awarding the grant(s) and monitoring the grant(s) performance.

Finally, the award recipient will monitor and report progress quarterly and annually and conduct a comprehensive evaluation of all required elements and conditions, including outcome measures for effectiveness and efficiency.

II. Award Information

The administrative and funding instrument for this program will be the cooperative agreement, in which HHS will have substantial scientific and/or programmatic involvement during the performance of the project. Under the cooperative agreement, HHS/OGHA will support and/or stimulate award recipient activities by working with them in a non-directive partnership role. HHS staff will be substantially involved in the program activities, above and beyond routine monitoring. Through this cooperative agreement, HHS will collaborate in an advisory capacity with the award recipient, especially during the development and implementation of a mutually agreed-upon work plan. HHS will actively participate in periodic reviews and in a final evaluation of the program.

HHS/OGHA provides policy and staffing support to the Secretary and other HHS leaders in the area of global health, and provides policy advice, leadership and coordination of international health matters across HHS, including leadership on major crosscutting global health initiatives and the Department's relationships with multilateral organizations.

Approximately up to $625,000 (including indirect costs) is available under the Department of Health and Human Services Revised Continuing Appropriations Resolution, 2007, Division B, section 101(6), Public Law 109-289 (2007) to support this agreement.

The anticipated start date is September 15, 2007. There will only be one, single award made from this announcement. The project period for this agreement is for one year with an individual budget period of 12-months for a total of $625,000. Continuation of this project and the level of funding are subject to satisfactory performance, availability of funds, and program priorities.

The award recipient must comply with all HHS management requirements for meeting progress against milestones and for financial reporting for this cooperative agreement. (Please see HHS Activities and Program Evaluation Sections below.)

HHS/OGHA activities for this program are as follows: In a cooperative agreement, HHS staff is substantially involved in the program activities, above and beyond routine grant-monitoring. HHS Activities for this program are as follows:

• Organize an orientation meeting with the grantee to brief it on applicable U.S. Government and HHS expectations, regulations and key management requirements, as well as report formats and contents.

• Review and approve the process used by the grantee to select key personnel and/or post-award subcontractors and/or subgrantees to be involved in the activities performed under this agreement.

• Review and approve the grantee's annual work plan and detailed budget.

• Review and approve the grantee's monitoring and evaluation plan.

• Meet on a monthly basis with the grantee to assess monthly expenditures in relation to approved work plan and modify plans, as necessary.

• Meet on a quarterly basis with the grantee to assess quarterly technical and financial progress reports and modify plans as necessary.

• Meet on an annual basis with the grantee to review annual progress report for each U.S. Government Fiscal Year, and to review annual work plans and budgets for subsequent year.

• Provide technical assistance, as mutually agreed upon, and revise annually during validation of the first and subsequent annual work plans.

• Provide in-country administrative support to help grantee meet U.S. Government financial and reporting requirements approved by the Office of Management and Budget (OMB) under 0920-0428 (Public Health Service Form 5161).

• Collaborate with the awardee on designing and implementing the activities listed above, including, but not limited to the provision of technical assistance to develop program activities, data management and analysis, quality assurance, the presentation and possibly publication of program results and findings, and the management and tracking of finances.

• Provide consultation and scientific and technical assistance based on appropriate, HHS/CDC documents to promote the use of best practices known at the time.

• Assist the recipient in developing and implementing quality-assurance criteria and procedures.

• Facilitate in-country planning and review meetings for technical assistance activities.

• Assure experienced HHS or other subject-matter experts from other relevant U.S. Government Departments and agencies will participate in the planning, development, implementation and evaluation of all phases of this project.

• Assist in establishing and maintaining U. S. Government, Afghan MoPH and NGOs contracts and agreements to carry out the program.

Program Evaluation Criteria

The applicant must have a comprehensive evaluation plan consistent with the scope, stated goals and objectives and funding level of the project. The evaluation plan should include both a process evaluation to track the implementation of the project activities and outcome evaluation criteria.

In addition to conducting internal evaluations, the successful applicant must be prepared to participate in external evaluations supported by the Afghan MoPH and HHS.

In addition to routine communications with the Afghan MoPH and HHS within 30 days following the end of each quarter, the grantee will submit a written quarterly performance and financial status report of no more than ten pages in length to the Ministry and HHS. At a minimum, quarterly performance reports will include the following:

• A concise summary of the most significant achievements and problems encountered during the reporting period, e.g., a comparison of work progress with objectives established for the quarter against the award recipient's implementation schedule. Where the awardee does not meet objectives, the report must include a statement of cause and a summary of corrective actions.

• Specific action(s) HHS and/or the Afghan MoPH needs to undertake to alleviate obstacles to progress.

• Other pertinent information that will permit overview and evaluation of project operations.

Within 90 days following the end of each project period, the awardee must submit a final report that contains all required information and data to MoPH and HHS. At minimum, the report will contain the following:

• A summary of the major activities supported under the cooperative agreement and the major accomplishments that resulted from activities to improve performance.

• An analysis of the project, based on the challenges described in the “Background” Section of the RFA performed prior to or during the project period, including a description of the specific objectives stated in the grant application and the accomplishments and failures that resulted from activities during the grant agreement period. The awardee should place emphasis on indicators and measures of operational efficiency and effectiveness.

III. Eligibility Information

1. Eligible Applicants

This is a single source, cooperative agreement with the Aga Khan Foundation (AKF), a non-denominational, international health, education and development agency operating in Afghanistan under the aegis of the Aga Khan Development Network (AKDN). The goal of the AKF's health program is to achieve sustainable improvements in health status among vulnerable groups, especially the geographically remote, women of childbearing age and children under five.

The U.S. Government remains committed to supporting efforts to improve the health status of women and children, while assisting in the further development of Afghanistan's overall health-care infrastructure. This proposal builds upon the extensive network of the AKDN and leverages the established relationships between the AKDN and the Government of Afghanistan.

At the invitation of the Afghan government, the Aga Khan University School of Nursing (AKU-SON), a component of the Aga Khan Health Services (AKHS) has been assisting in strengthening and implementing programs at the Afghan Institute of Health Sciences (IHS) since 2002. In collaboration with the Ministry of Health, Government of Afghanistan, WHO and Aga Kahn University (AKU), AKU-SON aims to support the development of Afghanistan's human resources in the health sector, especially nurses, midwives and health personnel through technical assistance and capacity building. These efforts have included providing nurse-based services and enhancing the existing skills of nurses through in-service training.

In 2003, AKHS undertook the task of enhancing the operations of IHS for the purpose of creating a centre of excellence that meets Afghanistan's needs for nursing, midwifery and allied health personnel training. AKU-SON's capacity building measures at IHS, Kabul, are geared towards learning methodology, knowledge upgrading and clinical skills training for both faculty and students. The training programs of AKU-SON enable nursing and midwifery students to hone clinical skills prior to interventions on patients by working on models in a renovated learning lab. In the area of technical assistance, the School has played an important role in revising the nursing and midwifery curricula and translating reference material into the local Dari language. The revised curriculum, since established as the national curricula in Afghanistan, has been introduced in regional Institutes in Herat, Jalalabad, Mazar-e-Sharif and Kunduz in 2005. Under the revised curriculum, nurses are trained to work alongside medical teams in clinics, hospitals and outreach centers providing direct care as well as sharing their skills and training with others.

The AKHS consists of a Medical College and a School of Nursing. Both components work in an interactive partnership with the Aga Khan University Hospital, which serves as the principal clinical and teaching facility. Components of the nursing and midwifery programs are also taught by AKU in Kabul and Karachi.

The curriculum at Kabul Medical University is also based upon the AKU-SON curriculum being implemented at the health institutes. In 2006, the Afghan MoPH granted AKU-SON permission to share all teaching materials. The AKU-SON curriculum consists of an eight semester, four-year program, which will provide graduates with education in subjects appropriate to the university level. The course catalog describes this curriculum as an education, which enables graduates to be competent practitioners of nursing, prepared to teach nursing, seek further qualification, and actively collaborate to improve the health of individuals, families, communities and the nation.

In 2007, AKU-SON is due to renew a five-year plan to strengthen nursing, midwifery and allied health education in Afghanistan. Since 2002, AKU-SON has been providing study tours to AKU and other colleges and universities to expose faculty to modern educational methods and systems. Every year since 2002, AKU-SON has also sponsored two faculty members for a Bachelor of Science in Nursing (BScN) and Master of Science in Nursing (MScN) degree at AKU in Pakistan. This education faculty has returned to Afghanistan and forms a small cadre of individuals qualified to lead Afghanistan nursing into the 21st Century.

The development of a baccalaureate degree in nursing in Afghanistan has always been a goal of AKU-SON. With funding from this cooperative agreement, AKF will be able to improve the government system of professional education for nurses in Afghanistan. This effort will work toward ensuring a cadre of nursing professionals who can provide the full range of quality prenatal, intrapartum and newborn care in all components of the Afghan health-care, including the community. HHS, through this cooperative agreement, will support the development of a multidisciplinary approach to health-care and will augment the funding and services AKDN and AKF are providing to foster the development of professional nursing. AKU-SON's reputation as a leader and as an advocate for the advancement of women in the health professions, especially nursing, is well established in the Central Asian region. AKDN and its many operating agencies, have demonstrated their commitment to Afghanistan in many spheres but have been relatively alone amongst donors in the support of the modernization of the health professions.

2. Cost Sharing or Matching

Although cost sharing, matching funds, and cost participation are not a requirement of this agreement, if the applicant receives funding from other sources to underwrite the same or similar activities, or anticipate receiving such funding in the next 12 months, they must detail how the disparate streams of financing complement each other.

3. Other—(If Applicable)

N/A

IV. Application and Submission Information

1. Address To Request Application Kit

Application kits may be obtained by accessing Grants.gov at http://www.grants.gov or the eGrants system at http://GrantSolution.gov. To obtain a hard copy of the application kit, contact OPHS Office of Grants Management. Applications must be prepared using Form OPHS-1, which can be obtained at the Web sites noted above.

2. Content and Form of Application Submission

Application Materials

A separate budget page is required for each budget year. The applicant must submit with their proposals a line-item budget (SF 424A) with coinciding justification to support each of the budget years. These forms will represent the full project period of Federal assistance requested. HHS/OGHA will reject proposals submitted without a budget and justification for each budget year requested in the application.

The applicant must include in their application a Project Abstract, submitted on 3.5-inch floppy disk. The abstract must be typed, single-spaced, and not exceed two (2) pages. Reviewers and staff will refer frequently to the information contained in the abstract, and therefore it should contain substantive information about the proposed projects in summary form. A list of suggested keywords and a format sheet for your use in preparing the abstract will accompany the application packet.

The applicant must include a Project Narrative in their grant applications. Format requirements are the same as for the “Project Abstract” Section; margins should be one-inch at the top and one-inch at the bottom and both sides; and typeset must be no smaller than 12 cpi and unreduced. The applicant should type biographical sketches either on the appropriate form or on plain paper and they should not exceed two pages; list only publications directly relevant to this project.

Application Format Requirements

If an applicant is applying on paper, the entire application may not exceed 80 pages in length, including the abstract, project and budget narratives, face page, attachments, any appendices and letters of commitment and support. The applicant must number pages consecutively.

HHS/OGHA will deem non-compliant applications submitted electronically that exceed 80 pages when printed and will return them to the applicant without further consideration.

a. Number of Copies

If submitting in hard-copy, please submit one original and two unbound copies of the application. Please do not bind or staple the application. The application must be single sided.

b. Font

Please use an easily readable serif typeface, such as Times Roman, Courier, or CG Times. The applicant must submit the text and table portions of the application in not less than 12-point and 1.0 line spacing. HHS/OGHA will deem applications that do not adhere to the 12-point font requirement non-compliant.

c. Paper Size and Margins

For scanning purposes, please submit the application on 8½″ x 11″ white paper. Margins must be at least one inch at the top, bottom, left and right of the paper. Please left-align text.

d. Numbering

Please number the pages of the application sequentially from page one (face page) to the end of the application, including charts, figures, tables, and appendices.

e. Names

Please include the name of the applicant on each page.

f. Section Headings

Please put all section headings flush left in bold type.

Application Format

An application for funding must consist of the following documents in the following order:

i. Application Face Page

HHS/PHS Application Form OPHS-1, provided with the application package. Prepare this page according to instructions provided in the form itself.

DUNS Number

All applicant organizations must have a Data Universal Numbering System (DUNS) number to apply for a grant from the Federal Government. The DUNS number is a unique, nine-character identification number provided by the commercial company Dun and Bradstreet. There is no charge to obtain a DUNS number. Information about obtaining a DUNS number is available at the following Internet address: https://www.dnb.com/product/eupdate/requestOptions.html or by calling 1-866-705-5711. Please include the DUNS number next to the Office of Management and Budget (OMB) Approval Number on the application face page. HHS/OGHA will not review applications that do not have a DUNS number.

Additionally, the applicant organization must register with the Federal Government's Central Contractor Registry (CCR) to do electronic business with the Federal Government. Information about registering with the CCR is available at the following Internet address: http://www.hrsa.gov/grants/ccr.htm.

Finally, the applicant that applies electronically through Grants.gov must register with the Credential Provider for Grants.gov. Information about this requirement is available at the following Internet address: http://www.grants.gov/CredentialProvider.

An applicant that is applying electronically through the HHS/OPHS GrantSolutions System must register with the provider. Information about this requirement is available at the following Internet address: https://www.grantsolutions.gov/gs/login.do.

ii. Table of Contents

Provide a Table of Contents for the remainder of the application (including appendices), with page numbers.

iii. Application Checklist

Application Form HHS/OPHS-1, provided with the application package.

iv. Budget

Application Form HHS/OPHS-1, provided with the application package.

v. Budget Justification

The applicant must enter the amount of financial support (direct and indirect costs) they are requesting from the Federal granting agency for the first year on the Face Sheet of Application Form HHS/PHS 5161-1, Line 15a. The application should include funds for electronic-mail capability, unless access to the Internet is already available. The amount of financial support (direct and indirect costs) entered on the SF 424 is the amount an applicant is requesting from the Federal granting agency for the project year.

Personnel Costs: The applicant should explain their personnel costs by listing each staff member supported from Federal funds, name (if possible), position title, percent full-time equivalency, annual salary, and the exact amount requested.

Fringe Benefits: The applicant must list the components that comprise the fringe benefit rate, for example, health insurance, taxes, unemployment insurance, life insurance, retirement plan, tuition reimbursement. The fringe benefits should be directly proportional to that portion of personnel costs allocated for the project.

Travel: The applicant must list travel costs according to local and long distance travel. For local travel the applicant should outline the mileage rate, number of miles, reason for the travel and the staff member/consumers who will be completing the travel.

Equipment: The applicant must list equipment costs, and provide justification for the need of the equipment to carry out the program's goals. The applicant must provide an extensive justification and a detailed status of current equipment when they request funds for the purchase of computers and furniture items.

Supplies: The applicant must list the items the project will use. In this category, separate office supplies from medical and educational purchases. “Office supplies” could include paper, pencils, and the like; “medical supplies” are syringes, blood tubes, plastic gloves, etc., and “educational supplies” can be pamphlets and educational videotapes. The applicant must list these categories separately.

Subcontracts: To the extent possible, the applicant should standardize all subcontract budgets and justifications, and should present contract budgets by using the same object-class categories contained in the Standard Form 424A. The applicant must provide a clear explanation as to the purpose of each contract, how the organization estimated the costs, and the specific contract deliverables.

Other: The applicant must put all costs that do not fit into any other category into this category, and provide and explanation of each cost in this category.

vi. Staffing Plan and Personnel Requirements

The applicant must present a staffing plan, and provide a justification for the plan that includes education and experience qualifications and the rationale for the amount of time requested for each staff position. The applicant must include in Appendix B position descriptions that include the roles, responsibilities, and qualifications of proposed project staff. The applicant must include in Appendix C copies of biographical sketches for any key employed personnel assigned to work on the proposed project.

vii. Project Abstract

The applicant must provide a summary of the application. Because HHS/OHGA often distributes the abstract to provide information to the American public and the U.S. Congress, the applicant should prepare this so it is clear, accurate, concise, and without reference to other parts of the application. It must include a brief description of the proposed grant project, including the needs addressed, the proposed work, and the population group(s) served.

The applicant must place the following at the top of the abstract:

• Project Title;

• Applicant Name;

• Address;

• Contact Phone Numbers (Voice, Fax);

• E-Mail Address; and

• Web Site Address, if applicable.

The project abstract must be single-spaced and limited to two pages in length.

viii. Program Narrative

This section provides a comprehensive framework and description of all aspects of the proposed program. It should be succinct, self-explanatory and well-organized so reviewers can understand the proposed project.

The applicant should use the following section headers for the Narrative:

• Introduction

This section should briefly describe the purpose of the proposed project.

• Work Plan

The applicant should describe the activities or steps to achieve each of the activities proposed in the methodology section and use a time line that includes each activity and identifies responsible staff.

• Resolution of Challenges

The applicant should discuss likely challenges designing and implementing the activities described in the Work Plan, and approaches to resolve such challenges.

• Evaluation and Technical Support Capacity

The applicant should describe their current, relevant experience, skills, and knowledge, including individuals on staff, materials published, and previous work of a similar nature.

• Organizational Information

The applicant should provide information on their current mission and structure, scope of current activities, and an organizational chart, and describe how these all contribute to the ability of the organization to conduct the program requirements and meet program expectations.

ix. Appendices

The applicant must provide the following items to complete the content of their applications. Please note these are supplementary in nature, and are not a continuation of the project narrative. The applicant should label each appendix.

Appendix A: Tables, Charts, etc.

To give further details about the proposal.

Appendix B: Job Descriptions for Key Personnel

The applicant should keep each to one page in length as much as possible. Item 6 in the “Program Narrative” section of the HHS/PHS 5161-1 Form provides some guidance on items to include in a job description.

Appendix C: Biographical Sketches of Key Personnel

The applicant should include biographical sketches for persons who are occupying the key positions described in Appendix B, not to exceed two pages in length. In the event an applicant includes a biographical sketch for an identified individual not yet hired, it must include a letter of commitment from that person with the biographical sketch.

Appendix D: Letters of Agreement and/or Description(s) of Proposed/Existing Contracts (project specific)

The applicant must provide any documents that describe working relationships between the applicant agency and other agencies and programs cited in the proposal. Documents that confirm actual or pending contractual agreements should clearly describe the roles of the subcontractors and any deliverable. Letters of Agreement must be dated.

Appendix E: Organizational Chart for the Project

The applicant must provide a one-page figure that depicts the organizational structure of the project, including subcontractors and other significant collaborators.

Appendix F: Other Relevant Documents

Include here any other documents relevant to the application, including letters of support. Letters of support must be dated.

3. Submission Dates and Times

To be considered for review, applications must be received by the Office of Public Health and Science, Office of Grants Management, by 5 p.m. Eastern Time on August 31, 2007. Applications will be considered as meeting the deadline if they are received on or before the deadline date. The application due date requirement in this announcement supersedes the instructions in the OPHS-1 form.

Application Submission

The Office of Public Health and Science (OPHS) provides multiple mechanisms for submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided is encouraged. Applications may only be submitted electronically via the electronic submission mechanisms specified below. Any applications submitted via any other means of electronic communication, including facsimile or electronic mail, will not be accepted for review.

Electronic grant application submissions must be submitted no later than 5 p.m. Eastern Time 90 days prior to your current budget period end date (refer to your most recent Notice of Grant Award box #7 for this information). All required hardcopy original signatures and mail-in items must be received by the OPHS Office of Grants Management no later than 5 p.m. Eastern Time on the next business day after the deadline date for your non-competing application.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions

The electronic grants management system, GrantSolutions.gov, provides for applications to be submitted electronically. When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time 90 days prior to your current budget period end date (refer to your most recent Notice of Grant Award box #7 for this information). The application deadline date requirement specified in this announcement supersedes the instructions in the OPHS-1. Applications that do not meet the deadline will be returned to the applicant unread.

4. Intergovernmental Review

This program is not subject to the review requirements of Executive Order 12372, Intergovernmental Review of Federal Programs.

5. Funding Restrictions

Allowability, allocability, reasonableness, and necessity of direct costs the applicant may charge appear in the following documents: OMB-21 (Institutes of Higher Education); OMB Circular A-122 (Nonprofit Organizations) and 45 CFR Part 74, Appendix E (Hospitals). Copies of these circulars are available on the Internet at the following Internet address: http://www.whitehouse.gov/omb. No pre-award costs are allowed.

6. Other Submission Requirements

N/A.

V. Application Review Information

1. Criteria

OGHA will be screen the application for completeness and for responsiveness to the program guidance. Applicant should pay strict attention addressing these criteria, as they are the basis upon which the application will be judged. If the application is judged to be non-responsive or incomplete, it will be returned to the applicant without review.

If the application is complete and responsive to the guidance, it will be evaluated for scientific and technical merit by an appropriate peer review group specifically convened for this solicitation and in accordance with HHS policies and procedures. As part of the initial merit review, all applications will receive a written critique. The application will be discussed fully by the ad hoc peer review group and assigned a priority score for funding. The application will be assessed according the following criteria:

(1) Technical Approach (40 points):

• The applicant's presentation of a sound and practical technical approach for executing the requirements with adequate explanation, substantiation and justification for methods for handling the projected needs of the partner institution.

• The successful applicant must demonstrate a clear understanding of the scope and objectives of the cooperative agreement, recognition of potential difficulties that may arise in performing the work required, presentation of adequate solutions, and understanding of the close coordination necessary between the OGHA/HHS, Afghanistan Ministry of Public Health, U.S. Agency for International Development, and other organizations, such as the World Health Organization and United Nations Children's Fund.

• Applicant must submit a strategic plan that outlines the schedule of activities and expected products of the Group's work with benchmarks at months six, 12. The strategic plan should specifically address the expected progress of the Quality of Care program.

(2) Experience and Capabilities of the Organization (30 Points):

• The applicant should submit documented relevant experience of the organization in managing projects of similar complexity and scope of the activities.

• Clarity and appropriateness of lines of communication and authority for coordination and management of the project. Adequacy and feasibility of plans to ensure successful coordination among multiple-partner collaboration.

• Documented experience recruiting qualified medical personnel for projects of similar complexity and scope of activities.

(3) Personnel Qualifications and Experience (20 points):

• Project Leadership—For the technical and administrative leadership of the project requirements, the successful applicant must demonstrate documented training, expertise, relevant experiences, leadership/management skills, and availability of a suitable overall project manager and surrounding management structure to successfully plan and manage the project. The successful applicant will provide documented history of leadership in the establishment and management of training programs that involve training of health-care professionals in countries other than the United States. Expertise in maternal and child health-care and services including documented training, expertise, relevant experience, leadership skills, and maternal and child health specific medical expertise. Documented managerial ability to achieve delivery or performance requirements as demonstrated by the proposed use of management and other personnel resources and to successfully manage the project, including subcontractor and/or consultant efforts, if applicable, as evidence by the management plan and demonstrated by previous relevant experience.

• Partner Institutions and Other Personnel—The applicant should provide documented evidence of availability, training, qualifications, expertise, relevant experience, education and competence of the scientific, clinical, analytical, technical and administrative staff and any other proposed personnel (including partner institutions, subcontractors and consultants), to perform the requirements of the work activities as evidenced by resumes, endorsements and explanations of previous efforts.

• Staffing Plan—The applicant should submit a staffing plan for the conduct of the project, including the appropriateness of the time commitment of all staff and partner institutions, the clarity and appropriateness of assigned roles, lines of authority. The applicant should also provide an organizational chart for each partner institution named in the application showing relationships among the key personnel.

• Administrative and Organizational Framework—Adequacy of the administrative and organizational framework, with lines of authority and responsibility clearly demonstrated, and adequacy of the project plan, with proposed time schedule for achieving objectives and maintaining quality control over the implementation and operation of the project. Adequacy of back-up staffing and the evidence that they will be able to function as a team. The framework should identify the institution that will assume legal and financial responsibility and accountability for the use and disposition of funds awarded on the basis of this RFA.

• Local Language Skills—The applicant should demonstrate the ability of employees to fluently speak Pashto and Persian.

(4) Facilities and Resources (10 Points):

The applicant must document the availability and adequacy of facilities, equipment and resources necessary to carry out the activities specified under the “Program Requirements” Section of this announcement.

2. Review and Selection Process

The application will be reviewed, by a panel of peer reviewers. Each of the above criteria will be addressed and considered by the reviewers in assigning the overall score. The final award will be made by the Deputy Director, Asia and Pacific Division of the Office Global Health Affairs on the basis of score, program relevance and, availability of funds.

VI. Award Administration Information

1. Award Notices

OGHA/HHS does not release information about individual applications during the review process until final funding decisions have been made. When a decision has been made, the applicant will be notified by letter regarding the outcome of its application. The official document notifying an applicant that an application has been approved and funded is the Notice of Award, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to state and local governments. The applicant funded under this announcement must be aware of and comply with these regulations. The CFR volume that includes parts 74 and 92 may be downloaded from http://www.access.gpo.gov/nara/cfr/waisidx_03/45cfrv1_03.html.

3. Reporting

The project is required to have an evaluation plan, consistent with the scope of the proposed project and funding level that conforms to the project's stated goals and objectives. The evaluation plan should include both a process evaluation to track the implementation of project activities and an outcome evaluation to measure changes in knowledge and skills that can be attributed to the project. Project funds may be used to support evaluation activities.

In addition to conducting their own evaluation of projects, the successful applicant must be prepared to participate in an external evaluation, to be supported by HHS/OGHA and conducted by an independent entity, to assess efficiency and effectiveness for the project funded under this announcement.

Within 30 days following the end of each quarter, a performance report no more than ten pages in length must be submitted to OGHA/HHS. A sample monthly performance report will be provided at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like HHS/OGHA to undertake to alleviate a problem.

• Other pertinent information that will permit monitoring and overview of project operations.

• A quarterly financial report describing the current financial status of the funds used under this award. The awardee and OGHA will agree at the time of award for the format of this portion of the report.

Within 90 days following the end of the project period a final report containing information and data of interest to the Department of Health and Human Services, Congress, and other countries must be submitted to HHS/OGHA. The specifics as to the format and content of the final report and the summary will be sent to the successful applicant. At minimum, the report should contain:

• A summary of the major activities supported under the agreement and the major accomplishments resulting from activities to improve mortality in partner country.

• An analysis of the project based on the problem(s) described in the application and needs assessments, performed prior to or during the project period, including a description of the specific objectives stated in the grant application and the accomplishments and failures resulting from activities during the grant period.

Quarterly performance reports and annual reports may be submitted to: Mr. Dewayne Wynn, Grants Management Specialist, Office of Grants Management, OPHS, HHS 1101 Wootton Parkway, Suite 550, Rockville, MD 20852, phone (240) 453-8822. A Financial Status Report (FSR) SF-269 is due 90 days after the close of each 12-month budget period and submitted to OPHS-Office of Grants Management.

VII. Agency Contacts

For assistance on administrative and budgetary requirements, please contact: Mr. DeWayne Wynn, Grants Management Specialist, Office of Grants Management, OPHS, HHS, 1101 Wootton Parkway, Suite 550, Rockville, MD 20852, phone (240) 453-8822.

For assistance regarding program requirements, please contact: Dr. Christopher Hickey, Department of Health and Human Services, Office of the Secretary, Office of Global Health Affairs, Asia-Pacific Division, 5600 Fishers Lane, Suite 18-101, Rockville, MD 20857, Phone Number: 301-443-1410.

VIII. Tips for Writing a Strong Application

Include DUNS Number

You must include a DUNS Number to have your application reviewed. An application will not be reviewed without a DUNS number. To obtain a DUNS number, access http://www.dunandbradstreet.com or call 1-866-705-5711. Please include the DUNS number next to the OMB Approval Number on the application face page.

Keep Your Audience in Mind

Reviewers will use only the information contained in the application to assess the application. Be sure the application and responses to the program requirements and expectations are complete and clearly written. Do not assume that reviewers are familiar with the applicant organization. Keep the review criteria in mind when writing the application.

Start Preparing the Application Early

Allow plenty of time to gather required information from various sources.

Follow the Instructions in This Guidance Carefully

Place all information in the order requested in the guidance. If the information is not placed in the requested order, you may receive a lower score.

Be Brief, Concise, and Clear

Make your points understandable. Provide accurate and honest information, including candid accounts of problems and realistic plans to address them. If any required information or data is omitted, explain why. Make sure the information provided in each table, chart, attachment, etc., is consistent with the proposal narrative and information in other tables.

Be Organized and Logical

Many applications fail to receive a high score because the reviewers cannot follow the thought process of the applicant or because parts of the application do not fit together.

Be Careful in the Use of Appendices

Do not use the appendices for information that is required in the body of the application. Be sure to cross-reference all tables and attachments located in the appendices to the appropriate text in the application.

Carefully Proofread the Application

Misspellings and grammatical errors will impede reviewers in understanding the application. Be sure pages are numbered (including appendices) and that page limits are followed. Limit the use of abbreviations and acronyms, and define each one at its first use and periodically throughout application.

Dated: August 10, 2007.
Mary Lou Valdez,
Deputy Director for Policy, Office of Global Health Affairs.

[FR Doc. E7-16096 Filed 8-15-07; 8:45 am]

BILLING CODE 4150-38-P